DEPARTMENT OF HEALTH AND HUMAN SERVICES

National Committee on Vital and Health Statistics: Meeting

Pursuant to the Federal Advisory Committee Act, the Department of Health and Human Services (HHS) announces the following special workgroup activity.

Name: National Committee on Vital and Health Statistics (NCVHS), Subcommittee on Standards Meeting.

Date and Time: Monday, August 21, 2017: 9:00 a.m.-4:00 p.m.

Place: U.S. Department of Health and Human Services, Hubert H. Humphrey Building, 200 Independence Avenue SW., Room 800, Washington, DC 20201, (202) 690-7100.

Status: Open.

Purpose: The National Committee on Vital and Health Statistics (NCVHS) is the advisory body to the U.S. Department of Health and Human Services (HHS) Secretary on health data, statistics, privacy, and national health information policy. NCVHS' role includes advising HHS in the implementation of the Administrative Simplification provisions of the Health Insurance Portability and Accountability Act of 1996 (HIPAA) and the Patient Protection and Affordable Care Act of 2010 (ACA). The Standards Subcommittee of NCVHS makes recommendations to the full Committee on health data standards, including implementation of the Administrative Simplification provisions of HIPAA and ACA.

The purpose of this meeting is for the Standards Subcommittee to gain a clear understanding of the current update and adoption process for standards and operating rules for electronic administrative transactions (e.g. claims, eligibility, electronic funds transfer) with invited representatives of the Standards Development Organizations: X12, HL7, NCPDP ¹ and NACHA,² the Operating Rule Authoring Entity, CAQH CORE,³ and Health and Human Services (HHS). The objectives of convening this workgroup specifically are to: (1) Gain a clear understanding of the procedures and processes each organization follows to update the standards and operating rules; (2) understand challenges with the current update and adoption process; (3) understand what options are available through the regulatory process for a more predictable schedule for the adoption of updated standards and operating rules; and (4) obtain recommendations for improvements to the update and adoption process. The findings will be used to inform development of a future NCVHS hearing to gather additional input from HIPAA-covered entities and their business associates for the purpose of making recommendations to the Secretary of HHS. There will be time at the end of the day for public comment.

¹ National Council on Prescription Drug Programs (NCPDP).

² National Automated Clearinghouse Association (NACHA).

³ Coalition for Affordable and Quality Health Care, Committee for Operating Rules for Information Exchange.

Contact Person for More Information: Substantive program information may be obtained from Rebecca Hines, Executive Secretary, NCVHS, National Center for Health Statistics, Centers for Disease Control and Prevention, 3311 Toledo Road, Hyattsville, Maryland 20782, telephone (301) 458-4715. Information pertaining to meeting content may be obtained from Lorraine Doo, Centers for Medicare & Medicaid Services, Division of National Standards, 7500 Security Boulevard, Baltimore, Maryland, 21244, telephone (410) 786-6597. Summaries of meetings and a roster of Committee members are available on the NCVHS home page of the HHS Web site: http://www.ncvhs.hhs.gov/, where further information including an agenda will be posted when available. Should you require reasonable accommodation, please contact the CDC Office of Equal Employment Opportunity on (301) 458-4EEO (4336) as soon as possible.

Dated: June 15, 2017.
Laina Bush,
Deputy Assistant Secretary for Planning and Evaluation, Office of the Assistant Secretary for Planning and Evaluation.

[FR Doc. 2017-13023 Filed 6-21-17; 8:45 am]

BILLING CODE 4151-05-P